DEPARTMENT OF COMMERCE

International Trade Administration

[A-570-045, C-570-046]

1-Hydroxyethylidene-1, 1-Diphosphonic Acid From the People's Republic of China: Initiation of Circumvention Inquiry of the Antidumping and Countervailing Duty Orders

AGENCY: Enforcement and Compliance, International Trade Administration, Department of Commerce.

SUMMARY: In response to a request from Compass Chemical International LLC (Compass, a domestic interested party), the U.S. Department of Commerce (Commerce) is initiating a country-wide circumvention inquiry to determine whether imports of 1-Hydroxyethylidene-1, 1-Diphosphonic Acid (HEDP) from the People's Republic of China (China), which has been altered in form or appearance in minor respects, are circumventing the antidumping duty (AD) and countervailing duty (CVD) orders.

DATES: Applicable December 19, 2024.

FOR FURTHER INFORMATION CONTACT: Charles Vannatta or Tyler O'Daniel; Office of Policy, Enforcement and Compliance, International Trade Administration, U.S. Department of Commerce, 1401 Constitution Avenue NW, Washington, DC 20230; telephone: (202) 482-4036 or (202)-482-6030, respectively.

SUPPLEMENTARY INFORMATION:

Background

On October 4, 2024, pursuant to section 781(c) of the Tariff Act of 1930, as amended (the Act), and 19 CFR 351.226(j), Compass filed a circumvention inquiry request alleging that solid or powdered acidic HEDP produced in China and exported to the United States constitutes merchandise altered in form or appearance in minor respects that is circumventing the Orders,¹ and, accordingly, should be included within the scope of the Orders.² On October 30, 2024, we issued a request for additional information to Compass,³ because we had found that Compass' request to conduct a circumvention inquiry was insufficient for purposes of initiation, in accordance with 19 CFR 351.226(d)(1). Additionally, we stated that 30-day period for Commerce to consider whether to initiate on Compass' circumvention inquiry request would begin with Compass' response to the request for information.⁴ Subsequently, on November 13, 2024, Compass filed its response to our request for information.⁵ Thus, we consider the circumvention inquiry request to have been filed on November 13, 2024.

¹ See 1-Hydroxyethylidene-1, 1-Diphosphonic Acid From the People's Republic of China: Amended Final Determination of Sales at Less Than Fair Value, and Antidumping Duty Order, 82 FR 22807 (May 18, 2017); see also 1-Hydroxyethylidene-1, 1-Diphosphonic Acid from the People's Republic of China: Countervailing Duty Order, 82 FR 22809 (May 18, 2017) (collectively, Orders).

² See Compass's Letter, “Request for an Anticircumvention Inquiry Pursuant to Section 781(c) of the Act,” dated October 4, 2024.

³ See Commerce's Letter, “Supplemental Questionnaire,” dated October 30, 2024.

⁴ Id.

⁵ See Compass's Letter, “Request for an Anticircumvention Inquiry Pursuant to Section 781(c) of the Act; Response to Supplemental Questionnaire,” dated November 13, 2024.

Scope of the Orders

The merchandise covered by the Orders includes all grades of aqueous acidic (non-neutralized) concentrations of 1-hydroxyethylidene-1, 1-disphosphonic acid (HEDP), also referred to as hydroxyethylidenendiphosphonic acid, hydroxyethanediphosphonic acid, acetodiphosphonic acid, and etidronic acid. The Chemical Abstract Service (CAS) registry number for HEDP is 2809-21-4.

The merchandise subject to the Orders is currently classified in the Harmonized Tariff Schedule of the United States (HTSUS) at subheading 2931.90.9043. It may also enter under HTSUS subheadings 2811.19.6090, 2931.90.9041, 2931.90.9051, 2811.19.6190, 2931.39.0018 and 2931.49.0050. While HTSUS subheadings and the CAS registry number are provided for convenience and customs purposes only, the written description of the scope of the Orders is dispositive.

Merchandise Subject to the Circumvention Inquiry

The merchandise covered by this circumvention inquiry includes all grades of acidic (non-neutralized) concentrations of 1-hydroxyethylidene-1, 1-diphosphonic acid (HEDP), also referred to as hydroxyethylidenendiphosphonic acid, hydroxyethanediphosphonic acid, acetodiphosphonic acid, and etidronic acid, in solid or powder form, produced in China and exported to the United States. The CAS registry number for solid acidic HEDP is 2809-21-4. The solid or powder form of acidic HEDP subject to this request is typically entered into the United States under HTSUS subheadings 2931.49.0080, 2931.90.9052 and 2811.19.6190.

Statutory and Regulatory Framework for Initiation of Circumvention Inquiry

Section 351.226(d)(1)(ii) of Commerce's regulations states that if Commerce determines that a request for a circumvention inquiry satisfies the requirements of 19 CFR 351.226(c), then Commerce “will accept the request and initiate a circumvention inquiry.” Section 351.226(c)(1) of Commerce's regulations, in turn, requires that each request for a circumvention inquiry allege “that the elements necessary for a circumvention determination under section 781 of the Act exist” and be “accompanied by information reasonably available to the interested party supporting these allegations.” Compass alleges circumvention pursuant to section 781(c) of the Act (i.e., merchandise altered in form or appearance in minor respects).

Section 781(c)(1) of the Act provides that the class or kind of merchandise subject to an AD or CVD order shall include articles that have been “altered in form or appearance in minor respects . . . whether or not included in the same tariff classification.” Section 781(c)(2) of the Act provides an exception that section 781(c)(1) of the Act “shall not apply with respect to altered merchandise if the administering authority determines that it would be unnecessary to consider the altered merchandise within the scope of the {order}.” Concerning the allegation of minor alterations under section 781(c) of the Act and 19 CFR 351.226(j), Commerce may consider criteria including, but not limited to: (1) Overall physical characteristics of the merchandise; (2) expectations of ultimate users; (3) use of the merchandise; (4) channels of marketing; and (5) cost of any modification relative to the value of the imported products.

In accordance with 19 CFR 351.226(m)(2), for companion AD and CVD proceedings, “the Secretary will initiate and conduct a single inquiry with respect to the product at issue for both orders only on the record of the antidumping proceeding.” Further, once “the Secretary issues a final circumvention determination on the record of the AD proceeding, the Secretary will include a copy of that determination on the record of the CVD.” Accordingly, once Commerce concludes this circumvention inquiry, Commerce intends to place its final circumvention determination on the record of the companion CVD proceeding.

Analysis

After analyzing the record evidence and Compass' allegation, we determine that the circumvention request satisfies the requirements of 19 CFR 351.226(c) and that there is sufficient information to warrant initiation of a circumvention inquiry based on minor alterations, pursuant to section 781(c) of the Act and 19 CFR 351.226(j). For a full discussion of the basis for our decision to initiate a circumvention inquiry, see the Initiation Checklist.⁶

⁶ See Initiation Checklist, “Initiation of the Circumvention Inquiry on the Antidumping and Countervailing Duty Orders,” dated concurrently with, and hereby adopted by, this notice (Initiation Checklist).

As explained in the Initiation Checklist, the information provided by Compass also warrants initiating this circumvention inquiry on a country-wide basis. Commerce has taken this approach in prior circumvention inquiries, where the facts warranted initiation on a country-wide basis.⁷

⁷ See, e.g., Aluminum Extrusions from the People's Republic of China: Affirmative Final Determination of Circumvention of the Antidumping and Countervailing Duty Orders and Rescission of Minor Alterations Anti-Circumvention Inquiry, 82 FR 34630 (July 26, 2017), and accompanying Issues and Decision Memorandum at Comment 4; see also Hydrofluorocarbon Blends from the People's Republic of China: Initiation of Circumvention Inquiry on the Antidumping Duty Order, 88 FR 74150 (October 30, 2023); Hydrofluorocarbon Blends from the People's Republic of China: Initiation of Circumvention Inquiries on the Antidumping Duty Order, 88 FR 43275 (July 7, 2023).

Respondent Selection

Commerce intends to base respondent selection on U.S. Customs and Border Protection (CBP) data. Commerce intends to place the CBP data on the record within five days of the publication of this initiation notice. Comments regarding the CBP data and respondent selection should be submitted within seven days after placement of the CBP data on the record of the inquiry.

Commerce intends to establish a schedule for questionnaire responses after respondent selection. A company's failure to completely respond to Commerce's requests for information may result in the application of facts available, pursuant to section 776(a) of the Act, which may include adverse inferences, pursuant to section 776(b) of the Act.

Suspension of Liquidation

Pursuant to 19 CFR 351.226(l)(1), Commerce intends to notify CBP of this initiation and direct CBP to continue the suspension of liquidation of entries of products subject to this circumvention inquiry that are already subject to the suspension of liquidation under the Orders and to apply the cash deposit rates that would be applicable if the products were determined to be covered by the scope of the Orders. Should Commerce issue affirmative preliminary or final circumvention determinations, Commerce will follow the suspension of liquidation rules under 19 CFR 351.226(l)(2)-(4).

Notification to Interested Parties

In accordance with 19 CFR 351.226(d) and section 781(c) of the Act, Commerce determines that Compass' request for a circumvention inquiry satisfies the requirements of 19 CFR 351.226(c). Accordingly, Commerce is notifying all interested parties of the initiation of this circumvention inquiry to determine whether solid or powdered acidic HEDP produced in, and exported from, China are circumventing the Orders. We have included a description of the products that are the subject to this inquiry and an explanation of Commerce's decision to initiate this inquiry as provided in the accompanying Initiation Checklist.⁸ In accordance with 19 CFR 351.226(e)(1), Commerce intends to issue its preliminary circumvention determination no later than 150 days from the date of publication of the notice of initiation of this circumvention inquiry in the Federal Register.

⁸ See Initiation Checklist.

This notice is published in accordance with section 781(c) of the Act and 19 CFR 351.226(d)(1)(ii).

Dated: December 13, 2024.
Abdelali Elouaradia,
Deputy Assistant Secretary for Enforcement and Compliance.

[FR Doc. 2024-30303 Filed 12-18-24; 8:45 am]

BILLING CODE 3510-DS-P